ENVIRONMENTAL PROTECTION AGENCY

[EPA-HQ-OPP-2021-0083; FRL-9409-08-OCSPP]

Pesticide Product Registration; Receipt of Applications for New Active Ingredients November 2022

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before February 3, 2023.

ADDRESSES: Submit your comments, identified by docket identification (ID) number EPA-HQ-OPP-2021-0083, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Biopesticides and Pollution Prevention Division (BPPD) (7511M), main telephone number: (202) 566-1400, email address: BPPDFRNotices@epa.gov; or Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through https://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www2.epa.gov/pesticide-registration/public-participation-process-registration-actions).

Notice of Receipt—New Active Ingredients

File Symbol: 264-REEI, 264-REGR, 264-REGE, 264-REGG. Docket ID number: EPA-HQ-OPP-2022-0871. Applicant: Bayer CropScience LP, 800 N Lindbergh Blvd., St. Louis, MO 63167. Product name: Spidoxamat technical, plenexos care, pridixor, plenexos smart. Active ingredient: Insecticide and spidoxamat at 97.04%, 4.8%, 82.84%, 7.2%. Proposed classification/Use: Citrus fruit (CG 10-10); pome fruit (CG 11-10); small fruit vine climbing—except fuzzy kiwifruit (crop subgroup 13-07F); stone fruit (CG 12-12); tree nuts (group 14-12, except almond). Contact: RD.

File Symbol: 29964-GU. Docket ID number: EPA-HQ-OPP-2022-0930. Applicant: Pioneer HiBred International, Inc., 7100 NW 62 Avenue, P.O. Box 1000, Johnston, IA 50131-1000. Product name: DP915635-4 Corn. Active ingredient: Insecticide; ophioglossum pendulum IPD079Ea insecticidal protein and the genetic material necessary (PHP83175 TDNA) for its production in corn event DP‐915635-4. Proposed use: Plant-incorporated protectant (PIP) for corn. Contact: BPPD.

File Symbol: 72662-I. Docket ID number: EPA-HQ-OPP-2022-0915. Applicant: Oro-Agri Inc. 2788 S Maple Ave., Fresno, CA. Product name: OR-097. Active ingredient: Sweet orange oil 5.5%. Product Type: Fungicide, insecticide, acaricide. Proposed classification/Use: Agricultural crops, greenhouse plants, nursery, turf. Contact: BPPD.

File Symbol: 72662-O. Docket ID number: EPA-HQ-OPP-2022-0915. Applicant: Oro-Agri Inc. 2788 S Maple Ave., Fresno, CA. Product name: Oro orange oil. Active ingredient: Sweet orange oil at 100%. Product Type: Fungicide, insecticide, acaricide. Proposed classification/use: For manufacturing or formulating of product to be used on agricultural crops, greenhouse plants, nursery, turf. Contact: BPPD.

File Symbol: 72662-T. Docket ID number: EPA-HQ-OPP-2022-0915. Applicant: Oro-Agri, Inc. 2788 S Maple Ave., Fresno, CA. Product name: OR-009. Active ingredient: Sweet orange oil 6.0%. Product type: Fungicide, insecticide, acaricide. Proposed classification/use: Agricultural crops, greenhouse plants, nursery, turf. Contact: BPPD.

Authority: 7 U.S.C. 136 et seq.

Dated: December 21, 2022.
Delores Barber,
Director, Information Technology and Resources Management Division, Office of Program Support.

[FR Doc. 2022-28556 Filed 1-3-23; 8:45 am]

BILLING CODE 6560-50-P